DEPARTMENT OF AGRICULTURE

Submission for OMB Review; Comment Request

August 9, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 13, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Evaluation of Child Support Enforcement Cooperation Requirements.

OMB Control Number: 0584-NEW.

Summary of Collection: The Agriculture Improvement Act of 2018 (Pub. L. 115-334) requires the U.S. Department of Agriculture (USDA) Food and Nutrition Service (FNS) to conduct an independent evaluation of the child support cooperation requirement in the Supplemental Nutrition Assistance Program (SNAP). The planned data collection fulfills this evaluation requirement. Section 17 [7 U.S.C. 2026] (m) (1, 2) of the Food and Nutrition Act of 2008 Section 17, 7 U.S.C. 2026), as amended by the Agriculture Improvement Act of 2018, authorizes the Secretary of Agriculture to enter into contracts with private institutions to assess the implementation, impacts, costs, and benefits of having a child support cooperation requirement in SNAP. The Personal Responsibility and Work Opportunity Reconciliation Act of 1996 (Appendix A3: Legal Authority Pub. L. 104-193) gave States the option to require custodial and noncustodial parents who apply for and participate in SNAP to cooperate with the child support program. The goals of this requirement are to increase child support participation, increase the income of families, and reduce their need for public assistance.

Need and Usse of the Information: The primary purpose of this voluntary, one-time data collection is to assess the implementation of the following: (1) The implementation of the child support cooperation requirement for each State in the study that currently implements the requirement; (2) the feasibility of implementing the child support cooperation requirement in a sample of State agencies that formerly implemented the requirement or are considering implementing the requirement; (3) the impact of the child support cooperation requirement in SNAP on both custodial and noncustodial parents in study States that have or formerly had a child support cooperation requirement; (4) how State agencies align the procedures for the implementing child support cooperation requirement in SNAP to those in other Federal programs; (5) determine the costs and benefits to State SNAP agencies, child support agencies, and households of requiring State agencies to implement the requirement; (6) assess the impact of the requirement on SNAP eligibility, benefit levels, food security, income, and economic stability.

Description of Respondents: Individuals/Households (750) Business-for-not-for-Profit (12) State, Local, or Tribal Government (352).

Number of Respondents: 1,114.

Frequency of Responses: Reporting; On occasion.

Total Burden Hours: 1,514.

Ruth Brown,
Departmental Information Collection Clearance Officer.

[FR Doc. 2021-17232 Filed 8-11-21; 8:45 am]

BILLING CODE 3410-30-P